DEPARTMENT OF COMMERCE

National Oceanic and Atmospheric Administration

[RTID 0648-XE187]

Management Track Assessment for American Plaice, Atlantic Halibut, Gulf of Maine Haddock, Georges Bank Haddock, Pollock, and Witch Flounder

AGENCY: National Marine Fisheries Service (NMFS), National Oceanic and Atmospheric Administration (NOAA), Commerce.

ACTION: Notice of public meeting.

SUMMARY: NMFS and the Assessment Oversight Panel (AOP) will convene the Management Track Assessment Peer Review Meeting for the purpose of reviewing American plaice, Atlantic halibut, Gulf of Maine haddock, Georges Bank haddock, Pollock, and Witch flounder stocks. The Management Track Assessment Peer Review is a formal scientific peer-review process for evaluating and presenting stock assessment results to managers for fish stocks in the offshore U.S. waters of the Northwest Atlantic. Assessments are prepared by the lead stock assessment analyst and reviewed by an independent panel of stock assessment experts. The public is invited to attend the presentations and discussions between the review panel and the scientists who have participated in the stock assessment process.

DATES: The public portion of the Management Track Assessment Peer Review Meeting will be held from September 16, 2024-September 19, 2024. The meeting is open to the public; however, the `Report Writing' session on Friday, will be closed. The meeting will conclude on September 20, 2024 at 5 p.m. Eastern Standard Time. Please see SUPPLEMENTARY INFORMATION for the daily meeting agenda.

ADDRESSES: The meeting will be held via Google Meet video call link:

https://meet.google.com/ths-kmxd-ejr

Or dial: (US) +1 669-238-0338

PIN: 341 828 693#

FOR FURTHER INFORMATION CONTACT: Michele Traver, 508-495-2195; michele.traver@noaa.gov.

SUPPLEMENTARY INFORMATION: For further information, please visit the Northeast Fisheries Science Center (NEFSC) website at https://www.fisheries.noaa.gov/new-england-mid-atlantic/population-assessments/fishery-stock-assessments-new-england-and-mid-atlantic. For additional information about the management track assessment peer review, please visit the NEFSC web page at https://www.fisheries.noaa.gov/new-england-mid-atlantic/population-assessments/management-track-stock-assessments.

Daily Meeting Agenda—Management Track Peer Review Meeting

The agenda is subject to change; all times are approximate and may be changed at the discretion of the Peer Review Chair.

Monday, September 16, 2024
Time | Stock | Subject | Presenter
9:30 a.m.-9:45 a.m. |  | Welcome/Logistics/Conduct of Meeting | Michele Traver, Kristan Blackhart, Richard Merrick, Chair.
9:45 a.m.-11:30 a.m. | American Plaice | TOR Review/Panel Questions | Amanda Hart, Panel.
11:30 a.m.-11:45 a.m. | Break.
11:45 a.m.-12 p.m. | American Plaice | Public Comment | Public.
12 p.m.-12:30 p.m. | American Plaice | Panel Deliberations | Panel.
12:30 p.m.-1 p.m. | American Plaice | Panel Conclusions/Recommendations and Final Stock Wrap Up | Panel.
1 p.m.-2 p.m. | Lunch.
2 p.m.-4 p.m. | Georges Bank Haddock | TOR Review/Panel Questions | Liz Brooks, Panel.
4 p.m.-4:15 p.m. | Break.
4:15 p.m.-4:30 p.m. | Georges Bank Haddock | Public Comment | Public.
4:30 p.m.-5 p.m. | Georges Bank Haddock | Panel Deliberations | Panel.
5 p.m.-5:30 p.m. | Georges Bank Haddock | Panel Conclusions/Recommendations and Final Stock Wrap Up | Panel.
5:30 p.m. | Adjourn.

Tuesday, September 17, 2024
Time | Stock | Subject | Presenter
9:30 a.m.-9:35 a.m. |  | Welcome/Logistics/Conduct of Meeting | Michele Traver, Kristan Blackhart, Richard Merrick, Chair.
9:35 a.m.-11 a.m. | Gulf of Maine Haddock | TOR Review/Panel Questions | Charles Perretti, Panel.
11 a.m.-11:15 a.m. | Break.
11:15 a.m.-12:15 p.m. | Gulf of Maine Haddock | TOR Review/Panel Questions, cont. | Charles Perretti, Panel.
12:15 p.m.-1:15 p.m. | Lunch.
1:15 p.m.-2:45 p.m. | Gulf of Maine Haddock | TOR Review/Panel Questions, cont. | Charles Perretti, Panel.
2:45 p.m.-3 p.m. | Break.
3 p.m.-3:15 p.m. | Gulf of Maine Haddock | Public Comment | Public.
3:15 p.m.-4:15 p.m. | Gulf of Maine Haddock | Panel Deliberations | Panel.
4:15 p.m.-4:45 p.m. | Gulf of Maine Haddock | Panel Conclusions/Recommendations and Final Stock Wrap Up | Panel.
4:45 p.m. | Adjourn.

Wednesday, September 18, 2024
Tim | Stock | Subject | Presenter
9:30 a.m.-9:35 a.m. |  | Welcome/Logistics/Conduct of Meeting | Michele Traver, Kristan Blackhart, Richard Merrick, Chair.
9:35 a.m.-11:15 a.m. | Pollock | TOR Review/Panel Questions | Brian Linton, Panel.
11:15 a.m.-11:30 a.m. | Break.
11:30 a.m.-12:30 p.m. | Pollock | TOR Review/Panel Questions, cont. | Brian Linton, Panel.
12:30 p.m.-1:30 p.m. | Lunch.
1:30 p.m.-3 p.m. | Pollock | TOR Review/Panel Questions, cont. | Brian Linton, Panel.
3 p.m.-3:15 p.m. | Break.
3:15 p.m.-3:30 p.m. | Pollock | Public Comment | Public.
3:30 p.m.-4:30 p.m. | Pollock | Panel Deliberations | Panel.
4:30 p.m.-5 p.m. | Pollock | Panel Conclusions/Recommendations and Final Stock Wrap Up | Panel.
5 p.m. | Adjourn.

Thursday, September 19, 2024
Time | Stock | Subject | Presenter
9:30 a.m.-9:35 a.m. |  | Welcome/Logistics/Conduct of Meeting | Michele Traver, Kristan Blackhart, Richard Merrick, Chair.
9:35 a.m.-11:30 a.m. | Witch Flounder | TOR Review/Panel Questions | Susan Wigley, Panel.
11:30 a.m.-11:45 a.m. | Break.
11:45 a.m.-12 p.m. | Witch Flounder | Public Comment | Public.
12 p.m.-12:30 p.m. | Witch Flounder | Panel Deliberations | Panel.
12:30 p.m.-1 p.m. | Witch Flounder | Panel Conclusions/Recommendations and Final Stock Wrap Up | Panel.
1 p.m.-2 p.m. | Lunch.
2 p.m.-5 p.m. | All stocks | Final Meeting Wrap Up, if needed; else closed panel writing session | Panel.
5 p.m. | Adjourn.

Friday, September 20, 2024
Time | Stocks | Subject | Presenter
9:30 a.m.-5 p.m. | All stocks | Report Writing | Closed panel session.
5 p.m. | Adjourn.

Special Accommodations

This meeting is physically accessible to people with disabilities. Special requests should be directed to Michele Traver, via email.

Dated: August 9, 2024.
Claudia Stephanie Womble,
Acting Director, Office of Sustainable Fisheries, National Marine Fisheries Service.

[FR Doc. 2024-18145 Filed 8-13-24; 8:45 am]

BILLING CODE 3510-22-P